FEDERAL COMMUNICATIONS COMMISSION

[DA 12-829; DA 12-979]

Open Internet Advisory Committee

AGENCY: Federal Communications Commission.

ACTION: Notice.

SUMMARY: The Commission announces appointment of members and chairperson to its Open Internet Advisory Committee (Committee). The Commission further announces the Committee's first meeting date, time, and agenda. The Committee was established to track and evaluate the effects of the Commission's Open Internet rules, and to provide any recommendations it deems appropriate to the Commission regarding policies and practices related to preserving the open Internet. The Committee will observe market developments regarding the freedom and openness of the Internet and will focus in particular on issues addressed in the Commission's Open Internet rules, such as transparency, reasonable network management practices, differences in treatment of fixed and mobile broadband services, specialized services, and technical standards.

DATES: July 20, 2012, 10 a.m. to 2 p.m., at the Commission's Headquarters Building, Room 3-B516.

ADDRESSES: Federal Communications Commission, 445 12th Street SW., Washington DC 20554.

FOR FURTHER INFORMATION CONTACT: Daniel Kirschner, Office of General Counsel, (202) 418-1735, or email Daniel.Kirschner@fcc.gov; or Deborah Broderson, Consumer and Governmental Affairs Bureau, (202) 418-0652, or email at Deborah.Broderson@fcc.gov

SUPPLEMENTARY INFORMATION: This is a summary of the Commission's document DA 12-829, released May 25, 2012, announcing the appointment of members and chairperson to the Committee, and DA 12-979, released June 21, 2012, announcing the agenda, date and time of the Committee's first meeting. By notice of intent to establish the Open Internet Advisory Committee, published at 76 FR 22395, April 21, 2011 the Commission announced the establishment of the Committee. By public notice, DA 11-1149, dated and released June 30, 2011, the Commission solicited applications for membership on the Committee. Members must be willing to commit to a two (2) year term of service, and to attend approximately two (2) one-day meetings per year in Washington, DC.

Appointment of Members and Chairperson

By document DA 12-829, Federal Communications Commission Chairman Julius Genachowski (Chairman) appointed twenty-one (21) members to its Open Internet Advisory Committee.

The roster as appointed by the Chairman is as follows:

Dr. Jonathan Zittrain, Professor of Law and Computer Science and Co-Founder of the Berkman Center for Internet and Society, Harvard University, is appointed chairperson of the Committee.

Dr. David Clark, Senior Research Scientist, Massachusetts Institute of Technology Computer Science and Artificial Intelligence Laboratory, is appointed vice-chairperson.

Members include:

Harvey Anderson, Vice President of Business Affairs & General Counsel, Mozilla

Brad Burnham, Founding Partner, Union Square Ventures

Alissa Cooper, Chief Computer Scientist, Center for Democracy & Technology

Leslie Daigle, Chief Internet Technology Officer, Internet Society

Jessica Gonzalez, Executive Board, Media and Democracy Coalition; Vice President for Policy & Legal Affairs, National Hispanic Media Coalition (representing NHMC)

Shane Greenstein, Professor and Kellogg Chair of Information Technology, Kellogg School of Management, Northwestern University

Russell Housley, Chair, Internet Engineering Task Force; Founder of Vigil Security, LLC (representing Vigil Security, LLC)

Neil Hunt, Chief Product Officer, Netflix

Charles Kalmanek, Vice President of Research, AT&T

Matthew Larsen, CEO, Vistabeam

Kevin McElearney, Senior Vice President for Network Engineering, Comcast

Marc Morial, President & CEO, National Urban League

Elaine Paul, Senior Vice President, Strategic Planning, The Walt Disney Company

Jennifer Rexford, Professor of Computer Science, Princeton University

Dennis Roberson, Vice Provost & Research Professor, Illinois Institute of Technology (representing T-Mobile)

Chip Sharp, Director, Technology Policy and Internet Governance, Cisco Systems

Charles Slocum, Assistant Executive Director, Writers Guild of America, West

Marcus Weldon, Chief Technology Officer, Alcatel-Lucent

Michelle Zatlyn, Co-Founder & Head of User Experience, CloudFlare

Meeting Date, Time and Agenda

The first meeting of the Committee will take place on July 20, 2012, from 10 a.m. to 2 p.m. at the Commission's headquarters building, Room 3-B516, 445 12th Street SW., Washington, DC 20554.

At its July 20, 2012 meeting, the Committee will consider administrative and procedural matters relating to its functions and may also consider open Internet-related issues. A limited amount of time will be available on the agenda for comments from the public. Alternatively, members of the public may send written comments to: Daniel Kirschner, Designated Federal Officer of the Committee at the address provided above.

The meeting is open to the public and the site is fully accessible to people using wheelchairs or other mobility aids. Open captioning will be provided for this event. Other reasonable accommodations for people with disabilities are available upon request. Requests for such accommodations should be submitted via email to fcc504@fcc.gov or by calling the Consumer and Governmental Affairs Bureau at (202) 418-0530 (voice), (202) 418-0432 (TTY). Such requests should include a detailed description of the accommodation needed. In addition, please include your contact information. Please allow at least five days advance notice; last minute requests will be accepted, but may be impossible to fill.

Federal Communications Commission.
Mark Stone,
Deputy Chief, Consumer and Governmental Affairs Bureau.

[FR Doc. 2012-15760 Filed 6-27-12; 8:45 am]

BILLING CODE 6712-01-P